DEPARTMENT OF HOMELAND SECURITY

Coast Guard

33 CFR Part 165

[Docket No. USCG-2010-0063]

Safety Zones; Annual Firework Displays Within the Captain of the Port, Puget Sound Area of Responsibility

AGENCY: Coast Guard, DHS.

ACTION: Notice of enforcement of regulation.

SUMMARY: The Coast Guard will enforce the safety zones for annual firework displays in the Captain of the Port, Puget Sound area of responsibility during the dates and times noted below. This action is necessary to prevent injury and to protect life and property of the maritime public from the hazards associated with the firework displays. During the enforcement periods, entry into, transit through, mooring, or anchoring within these zones is prohibited unless authorized by the Captain of the Port, Puget Sound or Designated Representative.

DATES: The regulations in 33 CFR 165.1332 will be enforced during the dates and times noted below.

FOR FURTHER INFORMATION CONTACT: If you have questions on this notice, call or email ENS Anthony P. LaBoy, Sector Puget Sound Waterways Management, Coast Guard; telephone 206-217-6323, SectorPugetSoundWWM@uscg.mil.

SUPPLEMENTARY INFORMATION: The Coast Guard will enforce the safety zones established for Annual Fireworks Displays within the Captain of the Port, Puget Sound Area of Responsibility in 33 CFR 165.1332 during the dates and times noted below.

The following safety zone will be enforced from 5:00 p.m. on June 30, 2012 through 1:00 a.m. on July 1, 2012:

Event name | Location | Latitude | Longitude | Radius
Langlie's Old Fashioned Independence Celebration | Indianola | 47°44.817′ N | 122°31.533′ W | 250 yds.

The following safety zones will be enforced from 5:00 p.m. on July 3, 2012 through 1:00 a.m. on July 4, 2012:

Event name | Location | Latitude | Longitude | Radius
Liberty Bay Fireworks | Liberty Bay | 47°43.917′ N | 122°39.133′ W | 300 yds.
Alderbrook Resort & Spa Fireworks | Hood Canal | 47°21.033′ N | 122°13.233′ W | 350 yds.
Deer Harbor Annual Fireworks Display | Deer Harbor | 48°37.000′ N | 123°00.250′ W | 150 yds.

The following safety zones will be enforced from 5:00 p.m. on July 4, 2012 through 1:00 a.m. on July 5, 2012.

Event name | Location | Latitude | Longitude | Radius
Port Angeles Chamber of Commerce | Port Angeles Harbor | 48°07.033′ N | 123°24.967′ W | 300 yds.
Sheridan Beach Community | Lake Forest Park | 47°44.783′ N | 122°16.917′ W | 200 yds.
Brewster Fire Department Fireworks | Brewster | 48°06.367′ N | 119°47.15′ W | 250 yds.
City of Mount Vernon Fireworks | Edgewater Park | 48°25.178′ N | 122°20.424′ W | 150 yds.
Tacoma Freedom Fair | Commencement Bay | 47°16.817′ N | 122°27.933′ W | 300 yds.
City of Renton Fireworks | Renton, Lake Washington | 47°30.386′ N | 122°12.502′ W | 150 yds.
Des Moines Fireworks | Des Moines | 47°24.117′ N | 122°20.033′ W | 150 yds.
Vashon Island Fireworks | Quartermaster Harbor | 47°24.0′ N | 122°27.0′ W | 450 yds.
City of Kenmore Fireworks | Lake Forest Park | 47°45.25′ N | 122°15.75′ W | 300 yds.
Yarrow Point Community | Yarrow Point | 47°38.727′ N | 122°13.466′ W | 150 yds.
Kirkland Fireworks | Kirkland, Lake Washington | 47°40.583′ N | 122°12.84′ W | 250 yds.
Three Tree Point Community Fireworks | Three Tree Point | 47°27.033′ N | 122°23.15′ W | 200 yds.
Kingston Fireworks | Appletree Cove | 47°47.65′ N | 122°29.917′ W | 150 yds.
Bainbridge Island Fireworks | Eagle Harbor | 47°37.142′ N | 122°30.397′ W | 300 yds.
City of Anacortes Fireworks | Fidalgo Bay | 48°30.016′ N | 122°36.154′ W | 350 yds.
Chase Family Fourth at Lake Union | Lake Union | 47°38.418′ N | 122°20.111′ W | 300 yds.
Port Townsend Sunrise Rotary | Port Townsend | 48°08.413′ N | 122°45.531′ W | 200 yds.
Friday Harbor Independence Day Fireworks | Friday Harbor | 48°32.600′ N | 122°00.467′ W | 250 yds.
Steilacom Independence Day Fireworks | Steilacom Bay | 47°10.400′ N | 122°36.200′ W | 350 yds.
Port Orchard Independence Day Fireworks | Port Orchard Bay | 47°32.883′ N | 122°37.917′ W | 350 yds.
East Sound Independence Day Fireworks | Orcas Island | 48°41.317′ N | 122°54.467′ W | 150 yds.

The following safety zone will be enforced from 5:00 p.m. on July 7, 2012 through 1:00 a.m. on July 8, 2012:

Event name | Location | Latitude | Longitude | Radius
Mercer Island Celebration | Mercer Island | 47°35.517′ N | 122°13.233′ W | 450 yds.

The following safety zone will be enforced from 5:00 p.m. on July 27, 2012 through 1:00 a.m. on July 28, 2012:

Event name | Location | Latitude | Longitude | Radius
Whaling Days | Dyes Inlet | 47°38.65′ N | 122°41.35′ W | 450 yds.

The following safety zone will be enforced from 5:00 p.m. on August 11, 2012 through 1:00 a.m. on August 12, 2012:

Event name | Location | Latitude | Longitude | Radius
Medina Days | Medina Park | 47°36.867′ N | 122°14.5′ W | 300 yds.

The special requirements listed in 33 CFR 165.1332, which can be found in the Federal Register (75 FR 33698) published on June 15, 2010, apply to the activation and enforcement of these safety zones.

All vessel operators who desire to enter the safety zone must obtain permission from the Captain of the Port or Designated Representative by contacting either the on-scene patrol craft on VHF Ch 13 or Ch 16 or the Coast Guard Sector Puget Sound Joint Harbor Operations Center (JHOC) via telephone at (206) 217-6002.

The Coast Guard may be assisted by other Federal, State, or local law enforcement agencies in enforcing this regulation.

This notice is issued under authority of 33 CFR 165.1332 and 5 U.S.C. 552(a). In addition to this notice, the Coast Guard will provide the maritime community with extensive advanced notification of the safety zones via the Local Notice to Mariners and marine information broadcasts on the day of the events.

Dated: May 22, 2012.
S.J. Ferguson,
Captain, U.S. Coast Guard, Captain of the Port, Puget Sound.

[FR Doc. 2012-13684 Filed 6-5-12; 8:45 am]

BILLING CODE 9110-04-P